DEPARTMENT OF THE INTERIOR

National Park Service

[NPS-WASO-PCE-COR-22612; PPWOPCADT0, PPMPSPD1T.Y00000 (177)]

Information Collection Request Sent to the Office of Management and Budget (OMB) for Approval; Application for Designation as National Recreation Trail or National Water Trail

AGENCY: National Park Service, Interior.

ACTION: Notice; request for comments.

SUMMARY: We (National Park Service, NPS) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATES: You must submit comments on or before January 23, 2017.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Mail Stop 242, Reston, VA 20192 (mail); or madonna_baucum@nps.gov (email). Please include “1024-New NRT NWTS” in the subject line of your comments. You may review the ICR online at http://www.reginfo.gov. Follow the instructions to review Department of the Interior collections under review by OMB.

FOR FURTHER INFORMATION CONTACT: For National Recreation Trails, contact Helen Scully, National Trails System Program Specialist/National Recreation Trails Coordinator for the Department of the Interior; 1849 C Street NW., Org Code 2220, Washington, DC 20240; helen_scully@nps.gov (email); (202) 354-6910 (phone); or (202) 371-5179 (fax). For National Water Trails, contact Corita Waters, NPS Rivers, Trails, and Conservation Assistance Program; 1849 C Street NW., Org Code 2220, Washington, DC 20240; corita_waters@nps.gov (email); (202) 354-6908 (phone); or (202) 371-5179 (fax).

SUPPLEMENTARY INFORMATION:

I. Abstract

The purpose of this information collection is to assist the National Park Service (NPS) in submitting suitable trails or trail systems to the Secretary of the Interior for designation as National Recreation Trails (NRTs), and in recommending exemplary water trails to the Secretary of the Interior for designation as National Water Trails (NWTs) to be included in the National Water Trails System (NWTS). The NPS administers the NRT program by authority of section 4 of the National Trails System Act (16 U.S.C. 1243). Secretarial Order No. 3319 established National Water Trails as a class of National Recreation Trails and directed that such trails collectively be considered in a National Water Trails System.

National Recreation Trail designation provides national recognition to local and regional trails or trail systems, acknowledging local and state efforts to build and maintain viable trails and trail systems. This recognition function is shared by the Secretary of Agriculture (for trails on National Forest lands and waters) and the Secretary of the Interior (for all other trails).

The National Water Trails System is focused on building a national network of exceptional water trails that can be sustained by an ever growing and vibrant water trail community. The NWTS connects Americans to the nation's waterways and strengthens the conservation and restoration of those waterways. Best management practices provide high quality water-based outdoor recreational opportunities.

II. Data

OMB Control Number: None.

Title: Application for Designation as National Recreation Trail or National Water Trail.

Form(s): Web-based forms: 10-1002, “Application for Designation as National Water Trail System” and 10-1003 Application for Designation as National Recreation Trail”.

Type of Request: Existing collection in use without OMB approval.

Description of Respondents: Private individuals; businesses; educational institutions; nonprofit organizations; state, tribal, and local governments; and Federal agency land units.

Respondent's Obligation: Required to obtain or retain benefits.

Frequency of Collection: On occasion.

| Annual respondents | Total annual responses | Avg. time per response (hours) | Total annual burden hours (rounded)
Application for Designation—National Recreation Trails
Individual | 1 | 1 | 8 | 8
Private Sector | 5 | 5 | 8 | 40
State, Local, or Tribal Governments | 6 | 8 | 8 | 64
Application for Designation—National Water Trails System
Individual | 1 | 1 | 11 | 11
Private Sector | 2 | 2 | 11 | 22
State, Local, or Tribal Governments | 3 | 3 | 11 | 33
Amendments/Updates—National Recreation Trails
Individual | 1 | 1 | .5 | 1
Private Sector | 1 | 1 | .5 | 1
State, Local, or Tribal Governments | 3 | 3 | .5 | 2
Amendments/Updates—National Water Trails System
Individual | 1 | 1 | .5 | 1
Private Sector | 1 | 1 | .5 | 1
State, Local, or Tribal Governments | 1 | 1 | .5 | 1
Total | 23 | 28 |  | 185

Estimated Annual Reporting and Recordkeeping “Non-Hour Cost”: None.

III. Comments

On August 8 2016, we published in the Federal Register (81 FR 52459) a Notice of our intent to request that OMB approve this information collection. In that Notice, we solicited comments for 60 days, ending on October 7, 2016. We did not receive any comments in response to that Notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: December 20, 2016.
Madonna L. Baucum,
Information Collection Clearance Officer, National Park Service.

[FR Doc. 2016-30965 Filed 12-22-16; 8:45 am]

BILLING CODE 4312-52-P